DEPARTMENT OF THE INTERIOR

Bureau of Land Management

[OR-130-1020-PH; GP6-0166]

Notice of Public Meeting, Eastern Washington Resource Advisory Council Meeting

AGENCY: Bureau of Land Management, Department of the Interior.

ACTION: Notice of public meeting.

SUMMARY: In accordance with the Federal Land Policy and Management Act and the Federal Advisory Committee Act of 1972, the U.S. Department of the Interior, Bureau of Land Management Eastern Washington Resource Advisory Council will meet as indicated below.

DATES: The Eastern Washington Resource Advisory Council (RAC) will meet Friday, August 18, 2006 at the Spokane District Office, Bureau of Land Management, 1103 North Fancher Road, Spokane Valley, Washington 99212-1275.

SUPPLEMENTARY INFORMATION: The meeting will start at 8 a.m. and adjourn at 10 a.m. The meeting is open to the public, with an opportunity for public comment between 8:30 a.m. and 9 a.m. Discussion will focus on the proposed Huckleberry Forest Stewardship Project—a vegetation treatment project for 190 acres of public land in Stevens County Washington, approximately 50 miles northwest of Spokane. After the meeting, the RAC will tour the Huckleberry Project area.

FOR FURTHER INFORMATION CONTACT: Sandra Gourdin or Scott Pavey, Bureau of Land Management, Spokane District Office, 1103 N. Fancher Road, Spokane Valley, Washington 99212, or call (509) 536-1200.

Dated: July 21, 2006.
Richard N. Bailey,
Acting District Manager.

[FR Doc. E6-12019 Filed 7-26-06; 8:45 am]

BILLING CODE 4310-33-P